DEPARTMENT OF COMMERCE

National Oceanic and Atmospheric Administration

50 CFR Parts 223 and 224

[Docket No. 160809713-6909-01]

RIN 0648-XE804

Revisions to Hatchery Programs Included as Part of Pacific Salmon and Steelhead Species Listed Under the Endangered Species Act

AGENCY: National Marine Fisheries Service (NMFS), National Oceanic and Atmospheric Administration (NOAA), Commerce.

ACTION: Proposed rule.

SUMMARY: We, NMFS, announce proposed revisions to the Code of Federal Regulations (CFR) to update the descriptions of Pacific salmon and steelhead (Oncorhynchus spp.) species currently listed as threatened or endangered under the Endangered Species Act of 1973 (ESA). Revisions include the addition or removal of specific hatchery programs, as well as clarifying changes to the names of specific hatchery programs included as part of the listings of certain Pacific salmon and steelhead species. These proposed changes are informed by our recently completed 5-year reviews under ESA. We do not propose to change the ESA-listing status of any species under NMFS' jurisdiction, or modify any critical habitat designation.

DATES: Comments and information regarding the proposed revisions must be received by December 20, 2016.

ADDRESSES: You may submit comments, information, or data, identified by the code NOAA-NMFS-2016-0110 by either of the following methods:

• Electronic Submissions: Submit all electronic comments via the Federal eRulemaking Portal. Go to www.regulations.gov/#!docketDetail;D=NOAA-NMFS-2016-0110. Click the “Comment Now” icon, complete the required fields, and enter or attach your comments.

• Mail: Send comments, identified with “Proposed Changes to Listed Salmon and Steelhead Hatchery Programs” to Chris Yates, Assistant Regional Administrator, Protected Resources Division, NMFS, West Coast Regional Office, Attn: Claire McGrath, 1201 NE. Lloyd Blvd., Suite 1100, Portland, OR 97232.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. We will accept anonymous comments (enter “N/A” in the required fields if you wish to remain anonymous).

FOR FURTHER INFORMATION CONTACT: Claire McGrath, NMFS, West Coast Region, Protected Resources Division, at the above address, by phone at (503) 230-5433, or by email at claire.mcgrath@noaa.gov. You may also contact Maggie Miller, NMFS, Office of Protected Resources, (301) 427-8403. Copies of the documents supporting this proposed rule can be found on our West Coast Region Web site at: www.westcoast.fisheries.gov.

SUPPLEMENTARY INFORMATION:

Background

Section 4 of the ESA provides for both NMFS and the U.S. Fish and Wildlife Service (FWS) to make determinations as to the endangered or threatened status of “species” in response to petitions or on their own initiative. In accordance with the ESA, we (NMFS) make determinations as to the threatened or endangered status of species by regulation. These regulations provide the text for each species' listing and include the content required by the ESA section 4(c)(1). We enumerate and maintain a list of species under our jurisdiction which we have determined to be threatened or endangered at 50 CFR 223.102 (threatened species) and 50 CFR 224.101 (endangered species) (hereafter referred to as the “NMFS Lists”). The FWS maintains two master lists of all threatened and endangered species, i.e., both species under NMFS' jurisdiction and species under FWS' jurisdiction (the “FWS Lists”) at 50 CFR 17.11 (threatened and endangered animals) and 50 CFR 17.12 (threatened and endangered plants). The term “species” for listing purposes under the ESA includes the following entities: Species, subspecies, and, for vertebrates only, “distinct population segments (DPSs).” Pacific salmon are listed as “evolutionarily significant units (ESUs),” which are essentially equivalent to DPSs for the purpose of the ESA. For West Coast salmon and steelhead, many of the ESU and DPS descriptions include fish originating from specific artificial propagation programs (e.g., hatcheries) that, along with their naturally-produced counterparts, are included as part of the listed species.

The ESA requires regular review of listed species to determine whether a species should be delisted, reclassified, or retain its current classification (16 U.S.C. 1533(c)(2)). Recently, we completed a 5-year review of the status of ESA-listed salmon ESUs and steelhead DPSs in California, Oregon, Idaho, and Washington (81 FR 33468, May 26, 2016). As part of the 5-year review, we reviewed the classification of all West Coast salmonid hatchery programs, taking into consideration the origin for each hatchery stock, the location of release of hatchery fish, and the degree of known or inferred genetic divergence between the hatchery stock and the local natural population(s). We used criteria in NMFS' Policy on the Consideration of Hatchery-Origin Fish in Endangered Species Act Listing Determinations for Pacific Salmon and Steelhead (“Hatchery Listing Policy”) (70 FR 37204, June 28, 2005) to guide our review. The Hatchery Listing Policy states that hatchery stocks will be considered part of an ESU/DPS if they exhibit a level of genetic divergence relative to the local natural population(s) that is not more than what occurs within the ESU/DPS.

In a NMFS internal memorandum, Jones (2015) summarizes the results of our most recent hatchery program review. We identified 28 hatchery programs for which we recommend a change in classification, i.e., adding the program to or removing it from an ESU/DPS. We propose to remove 5 hatchery programs because they have been terminated and the last cohort of adult hatchery-origin fish has returned. We propose to add 23 hatchery programs to the relevant listed ESU/DPS because our 5-year review and hatchery program evaluation (Jones 2015) concluded that the program exhibits a level of genetic divergence relative to the local natural population(s) that is not more than what occurs within the ESU/DPS. Consistent with the Hatchery Listing Policy, such programs should be included and listed as part of the ESU/DPS. The reader is referred to the 5-year review reports and Jones (2015) for a more detailed explanation of the proposed changes summarized below.

We identified 26 hatchery programs for which we propose a name change. These name changes reflect an effort to standardize conventions for naming hatchery programs (e.g., we recommend removing Oregon Department of Fish and Wildlife (ODFW) hatchery stock identification numbers from hatchery program names) or otherwise clarify the specific hatchery program that is included in a listing. In addition, we recommend minor changes in terminology used to describe three ESU/DPSs for which there are no other proposed revisions in order to standardize species descriptions. We summarize the proposed revisions below and provide the full text of proposed updates to the listed species' descriptions at 50 CFR parts 223 and 224 in the regulatory text at the end of this Federal Register notice. After considering public comments on these proposed revisions, we will finalize this proposed rule and then coordinate with the FWS to ensure that the changes are reflected in the FWS Lists at 50 CFR 17.11.

Endangered Species at 50 CFR 224.101

Revisions to Endangered Species Descriptions

Below we summarize proposed revisions to the descriptions of our endangered species listed in 50 CFR 224.101. Based on our recently completed 5-year reviews of the status of ESA-listed salmon ESUs and steelhead DPSs in California, Oregon, Idaho, and Washington, and our evaluation of West Coast salmon and steelhead hatchery programs in Jones (2015) (see http://www.westcoast.fisheries.noaa.gov/publications/status_reviews/salmon_steelhead/2016_status_review.html for these supporting documents), the description of two endangered species must be revised to account for changes in the classification of specific artificial propagation programs considered part of the respective ESUs. The addition or termination of an artificial propagation program does not constitute a listing or delisting of an ESU, but simply a revision to reflect the actual current composition of the listed ESU. We also propose minor changes in the description terminology of two other endangered species to standardize species descriptions.

Salmon, Chinook (Sacramento River Winter-Run ESU)

We propose to revise this description to read: “Naturally spawned winter-run Chinook salmon originating from the Sacramento River and its tributaries. Also, winter-run Chinook salmon from the following artificial propagation programs: The Livingston Stone National Fish Hatchery (supplementation and captive broodstock).” The change proposed for this DPS is to add the captive broodstock component of the Livingston Stone National Fish Hatchery Program, which was restarted in 2015 after being implemented from 1991 to 2007 and then discontinued. The source of fish for both the captive broodstock and supplementation programs is local, natural-origin winter Chinook salmon in the upper Sacramento River.

Salmon, Chinook (Upper Columbia River Spring-Run ESU)

We propose to revise this description to read: “Naturally spawned spring-run Chinook salmon originating from Columbia River tributaries upstream of the Rock Island Dam and downstream of Chief Joseph Dam (excluding the Okanogan River subbasin). Also, spring-run Chinook salmon from the following artificial propagation programs: The Twisp River Program; Methow Program; Winthrop National Fish Hatchery Program; Chiwawa River Program; White River Program; and the Nason Creek Program.” The changes proposed for this ESU include: (1) Removing the Chewuch River Program as an artificial propagation program included in this ESU because it is now considered part of the Methow Program; and (2) adding the new Nason Creek Program because the source for these fish is local, natural-origin fish from Nason Creek.

Salmon, Coho (Central California Coast ESU)

We propose to revise this description to read: “Naturally spawned coho salmon originating from rivers south of Punta Gorda, California, to and including Aptos Creek, as well as such coho salmon originating from tributaries to San Francisco Bay. Also, coho salmon from the following artificial propagation programs: The Don Clausen Fish Hatchery Captive Broodstock Program; the Scott Creek/King Fisher Flats Conservation Program; and the Scott Creek Captive Broodstock Program.” There are no proposed changes in hatchery programs included in this ESU. We recommend minor changes in terminology to standardize species descriptions.

Salmon, Sockeye (Snake River ESU)

We propose to revise this description to read: “Naturally spawned anadromous and residual sockeye salmon originating from the Snake River basin. Also, sockeye salmon from the Redfish Lake Captive Broodstock Program.” There are no proposed changes in hatchery programs included in this ESU. We recommend minor changes in terminology to standardize species descriptions.

Threatened Species at 50 CFR 223.102

Revisions to Threatened Species Descriptions

Below we summarize proposed revisions to the descriptions of threatened species listed in 50 CFR 223.102. Based on our recently completed 5-year reviews of the status of ESA-listed salmon ESUs and steelhead DPSs in California, Oregon, Idaho, and Washington (see http://www.westcoast.fisheries.noaa.gov/publications/status_reviews/salmon_steelhead/2016_status_review.html for status review documents), the descriptions of 17 threatened species must be revised to account for changes in the classification or name of specific artificial propagation programs associated with that ESU or DPS. The addition or termination of these artificial propagation programs does not constitute a listing or delisting of an ESU or DPS, but simply a revision to the composition of the listed ESU or DPS. We also propose minor changes in the description terminology of one other threatened species to standardize species descriptions.

Salmon, Chinook (Lower Columbia River ESU)

We propose to revise this description to read: “Naturally spawned Chinook salmon originating from the Columbia River and its tributaries downstream of a transitional point east of the Hood and White Salmon Rivers, and any such fish originating from the Willamette River and its tributaries below Willamette Falls. Not included in this DPS are: (1) Spring-run Chinook salmon originating from the Clackamas River; (2) fall-run Chinook salmon originating from Upper Columbia River bright hatchery stocks, that spawn in the mainstem Columbia River below Bonneville Dam, and in other tributaries upstream from the Sandy River to the Hood and White Salmon Rivers; (3) spring-run Chinook salmon originating from the Round Butte Hatchery (Deschutes River, Oregon) and spawning in the Hood River; (4) spring-run Chinook salmon originating from the Carson National Fish Hatchery and spawning in the Wind River; and (5) naturally spawned Chinook salmon originating from the Rogue River Fall Chinook Program. This DPS does include Chinook salmon from the following artificial propagation programs: The Big Creek Tule Chinook Program; Astoria High School Salmon-Trout Enhancement Program (STEP) Tule Chinook Program; Warrenton High School STEP Tule Chinook Program; Cowlitz Tule Chinook Program; North Fork Toutle Tule Chinook Program; Kalama Tule Chinook Program; Washougal River Tule Chinook Program; Spring Creek National Fish Hatchery (NFH) Tule Chinook Program; Cowlitz Spring Chinook Program in the Upper Cowlitz River and the Cispus River; Friends of the Cowlitz Spring Chinook Program; Kalama River Spring Chinook Program; Lewis River Spring Chinook Program; Fish First Spring Chinook Program; Sandy River Hatchery Program; Deep River Net Pens-Washougal Program; Klaskanine Hatchery Program; Bonneville Hatchery Program; and the Cathlamet Channel Net Pens Program.” The changes proposed for this ESU include: (1) Adding the Deep River Net Pens-Washougal Program because these fish are returning hatchery-origin adults from the Washougal River Tule Chinook Program, which is included in the ESU; (2) adding the Klaskanine Hatchery Program because the source for these fish is the Big Creek Tule Chinook Program, which is included in the ESU; (3) adding the Bonneville Hatchery Program because the source for these fish is the Spring Creek NFH Tule Chinook Program, which is included in the ESU; and (4) adding the Cathlamet Channel Net Pens Program, because the source for these fish is the Cowlitz Spring Chinook Program in the Upper Cowlitz River, which is included in the ESU. Jones (2015) concluded that, given the within-ESU source of broodstock for these hatchery programs, they exhibit a level of genetic divergence relative to the local natural population(s) that is not more than what occurs within the ESU/DPS. Consistent with the Hatchery Listing Policy, Jones (2015) recommended that these hatchery programs be proposed for inclusion as part of the Lower Columbia River Chinook ESU.

Salmon, Chinook (Puget Sound ESU)

We propose to revise this description to read: “Naturally spawned Chinook salmon originating from rivers flowing into Puget Sound from the Elwha River (inclusive) eastward, including rivers in Hood Canal, South Sound, North Sound and the Strait of Georgia. Also, Chinook salmon from the following artificial propagation programs: the Kendall Creek Hatchery Program; Marblemount Hatchery Program (spring subyearlings and summer-run); Brenner Creek Hatchery Program (summer-run and fall-run); Whitehorse Springs Pond Program; Wallace River Hatchery Program (yearlings and subyearlings); Issaquah Hatchery Program; White River Hatchery Program; White Acclimation Pond Program; Voights Creek Hatchery Program; Diru Creek Program; Clear Creek Program; Kalama Creek Program; George Adams Hatchery Program; Hamma Hatchery Program; Dungeness/Hurd Creek Hatchery Program; Elwha Channel Hatchery Program; Skookum Creek Hatchery Spring-run Program; Bernie Kai-Kai Gobin (Tulalip) Hatchery-Cascade Program; North Fork Skokomish River Spring-run Program; the Soos Creek Hatchery Program (subyearlings and yearlings); the Fish Restoration Facility Program; the Bernie Kai-Kai Gobin (Tulalip) Hatchery-Skykomish Program; and the Hupp Springs Hatchery-Adult Returns to Minter Creek Program.” The changes proposed for this ESU include: (1) Removing the Icy Creek Hatchery Program as an artificial propagation program included in this ESU because it is now considered part of the Soos Creek Program; (2) adding the Bernie Kai-Kai Gobin (Tulalip) Hatchery-Cascade Program because the source for these fish is the Marblemount Hatchery Program (spring subyearlings), which is included in the ESU; (3) adding the new North Fork Skokomish River Spring-run Program because the source for these fish is the Marblemount Hatchery Program (spring subyearlings), which is included in the ESU; (4) removing the Rick's Pond Hatchery Program, a terminated program for which all hatchery-origin adults have returned; (5) updating the name of the Soos Creek Hatchery Program, which is included in the ESU, to the Soos Creek Hatchery Program (subyearlings and yearlings); (6) updating the name of the Keta Creek Hatchery Program, which is included in the ESU, to the Fish Restoration Facility Program; (7) updating the name of the Tulalip Bay Program, which is included in the ESU, to the Bernie Kai-Kai Gobin (Tulalip) Hatchery-Skykomish Program; (8) updating the name of the Hupp Springs Hatchery Program, which is included in the ESU, to the Hupp Springs Hatchery-Adult Returns to Minter Creek Program; and (9) updating the name of the Harvey Creek Hatchery Program, which is included in the ESU, to the Brenner Creek Hatchery Program.

Salmon, Chinook (Snake River Fall-Run ESU)

We propose to revise this description to read: “Naturally spawned fall-run Chinook salmon originating from the mainstem Snake River below Hells Canyon Dam and from the Tucannon River, Grande Ronde River, Imnaha River, Salmon River, and Clearwater River subbasins. Also, fall-run Chinook salmon from the following artificial propagation programs: the Lyons Ferry Hatchery Program; Fall Chinook Acclimation Ponds Program; Nez Perce Tribal Hatchery Program; and the Idaho Power Program.” The change proposed for this ESU is to update the name of the Oxbow Hatchery Program, which is included in the ESU, to the Idaho Power Program.

Salmon, Chinook (Snake River Spring/Summer-Run ESU)

We propose to revise this description to read: “Naturally spawned spring/summer-run Chinook salmon originating from the mainstem Snake River and the Tucannon River, Grande Ronde River, Imnaha River, and Salmon River subbasins. Also, spring/summer-run Chinook salmon from the following artificial propagation programs: The Tucannon River Program; Lostine River Program; Catherine Creek Program; Lookingglass Hatchery Program; Upper Grande Ronde Program; Imnaha River Program; McCall Hatchery Program; Johnson Creek Artificial Propagation Enhancement Program; Pahsimeroi Hatchery Program; Sawtooth Hatchery Program; Yankee Fork Program; Dollar Creek Program; Panther Creek Program; and the Big Sheep Creek-Adult outplanting from Imnaha Program.” The changes proposed for this ESU include: (1) Adding the Yankee Fork Program because the source for these fish is the Sawtooth Hatchery Program, which are included in the ESU; (2) adding the Dollar Creek Program because the source for these fish is the McCall Hatchery Program, which is included in the ESU; (3) adding the Panther Creek Program because the source for these fish is the Pahsimeroi Hatchery Program, which is included in the ESU; and (4) updating the name of the Big Sheep Creek Program, which is included in the ESU, to the Big Sheep Creek-Adult outplanting from Imnaha Program.

Salmon, Chinook (Upper Willamette River ESU)

We propose to revise this description to read: “Naturally spawned spring-run Chinook salmon originating from the Clackamas River and from the Willamette River and its tributaries above Willamette Falls. Also, spring-run Chinook salmon from the following artificial propagation programs: The McKenzie River Hatchery Program; Willamette Hatchery Program; Clackamas Hatchery Program; North Santiam River Program; South Santiam River Program; and the Mollala River Program.” The changes proposed for this ESU include: (1) Updating the name of the Marion Forks Hatchery/North Fork Santiam Hatchery Program (ODFW Stock #21), which is included in the ESU, to the North Santiam River Program; (2) separating the South Santiam Hatchery Program (ODFW Stock #24) in the South Fork Santiam River and Mollala River, which is included in the ESU, into two programs named the South Santiam River Program and the Mollala River Program; and (3) removing Oregon Department of Fish and Wildlife (ODFW) stock numbers from the names of the McKenzie River Hatchery Program, Willamette Hatchery Program, and Clackamas Hatchery Program.

Salmon, Chum (Columbia River ESU)

We propose to revise this description to read: “Naturally spawned chum salmon originating from the Columbia River and its tributaries in Washington and Oregon. Also, chum salmon from the following artificial propagation programs: The Grays River Program; Washougal River Hatchery/Duncan Creek Program; and the Big Creek Hatchery Program.” The change proposed for this ESU is to add the new Big Creek Hatchery Program because the source for these fish is local, natural-origin fish from the Grays River, which is included in the ESU.

Salmon, Chum (Hood Canal Summer-Run ESU)

We propose to revise this description to read: “Naturally spawned summer-run chum salmon originating from Hood Canal and its tributaries as well as from Olympic Peninsula Rivers between Hood Canal and Dungeness Bay (inclusive). Also, summer-run chum salmon from the following artificial propagation programs: The Lilliwaup Creek Fish Hatchery Program; and the Tahuya River Program.” The changes proposed for this ESU include removing two terminated programs for which all hatchery-origin adults have returned: (1) The Hamma Fish Hatchery Program; and (2) the Jimmycomelately Creek Fish Hatchery Program.

Salmon, Coho (Lower Columbia River ESU)

We propose to revise this description to read: “Naturally spawned coho salmon originating from the Columbia River and its tributaries downstream from the Big White Salmon and Hood Rivers (inclusive) and any such fish originating from the Willamette River and its tributaries below Willamette Falls. Also, coho salmon from the following artificial propagation programs: The Grays River Program; Peterson Coho Project; Big Creek Hatchery Program; Astoria High School Salmon-Trout Enhancement Program (STEP) Coho Program; Warrenton High School STEP Coho Program; Cowlitz Type-N Coho Program in the Upper and Lower Cowlitz Rivers; Cowlitz Game and Anglers Coho Program; Friends of the Cowlitz Coho Program; North Fork Toutle River Hatchery Program; Kalama River Type-N Coho Program; Kalama River Type-S Coho Program; Lewis River Type-N Coho Program; Lewis River Type-S Coho Program; Fish First Wild Coho Program; Fish First Type-N Coho Program; Syverson Project Type-N Coho Program; Washougal River Type-N Coho Program; Eagle Creek National Fish Hatchery Program; Sandy Hatchery Program; Bonneville/Cascade/Oxbow Complex Hatchery Program; Clatsop County Fisheries Net Pen Program; and the Clatsop County Fisheries/Klaskanine Hatchery Program.” The changes proposed for this ESU include: (1) Adding the Clatsop County Fisheries Net Pen Program because the broodstock origin is Tanner Creek, which is included in the ESU; (2) adding the Clatsop County Fisheries/Klaskanine Hatchery Program because the source for these fish is the Big Creek Hatchery Program, which is included in the ESU; and (3) removing ODFW stock numbers from the names of the Big Creek Hatchery Program, Sandy Hatchery Program, and Bonneville/Cascade/Oxbow Complex Hatchery Program.

Salmon, Coho (Oregon Coast ESU)

We propose to revise this description to read: “Naturally spawned coho salmon originating from coastal rivers south of the Columbia River and north of Cape Blanco. Also, coho salmon from the Cow Creek Hatchery Program.” The change proposed for this ESU is to remove the ODFW stock number from the name of the Cow Creek Hatchery Program.

Salmon, Coho (Southern Oregon/Northern California Coast ESU)

We propose to revise this description to read: “Naturally spawned coho salmon originating from coastal streams and rivers between Cape Blanco, Oregon, and Punta Gorda, California. Also, coho salmon from the following artificial propagation programs: The Cole Rivers Hatchery Program; Trinity River Hatchery Program; and the Iron Gate Hatchery Program.” The change proposed for this ESU is to remove the ODFW stock number from the name of the Cole Rivers Hatchery Program.

Salmon, Sockeye (Ozette Lake ESU)

We propose to revise this description to read: “Naturally spawned sockeye salmon originating from the Ozette River and Ozette Lake and its tributaries. Also, sockeye salmon from the Umbrella Creek/Big River Hatchery Program.” The change proposed for this ESU is to combine the Umbrella Creek Hatchery Program and Big River Hatchery Program, which are included in the ESU, into one program called the Umbrella Creek/Big River Hatchery Program. This integrated program uses broodstock from Umbrella Creek that were derived from natural-origin fish from Ozette Lake, and releases fish into Umbrella Creek and Big River.

Steelhead (California Central Valley DPS)

We propose to revise this description to read: “Naturally spawned anadromous O. mykiss (steelhead) originating below natural and manmade impassable barriers from the Sacramento and San Joaquin Rivers and their tributaries; excludes such fish originating from San Francisco and San Pablo Bays and their tributaries. This DPS includes steelhead from the following artificial propagation programs: The Coleman National Fish Hatchery Program; Feather River Fish Hatchery Program; and the Mokelumne River Hatchery Program.” The change proposed for this DPS is to add the Mokelumne River Hatchery Program because fish in this program are genetically most similar to Feather River Fish Hatchery Program steelhead, which are included in the DPS.

Steelhead (Central California Coast DPS)

We propose to revise this description to read: “Naturally spawned anadromous O. mykiss (steelhead) originating below natural and manmade impassable barriers from the Russian River to and including Aptos Creek, and all drainages of San Francisco and San Pablo Bays eastward to Chipps Island at the confluence of the Sacramento and San Joaquin Rivers. Also, steelhead from the following artificial propagation programs: the Don Clausen Fish Hatchery Program and the Kingfisher Flat Hatchery Program (Monterey Bay Salmon and Trout Project).” There are no proposed changes in hatchery programs included in this ESU. We recommend minor changes in terminology to standardize species descriptions.

Steelhead (Lower Columbia River DPS)

We propose to revise this description to read: “Naturally spawned anadromous O. mykiss (steelhead) originating below natural and manmade impassable barriers from rivers between the Cowlitz and Wind Rivers (inclusive) and the Willamette and Hood Rivers (inclusive); excludes such fish originating from the upper Willamette River basin above Willamette Falls. This DPS includes steelhead from the following artificial propagation programs: The Cowlitz Trout Hatchery Late Winter-run Program (Lower Cowlitz); Kalama River Wild Winter-run and Summer-run Programs; Clackamas Hatchery Late Winter-run Program; Sandy Hatchery Late Winter-run Program; Hood River Winter-run Program; Lewis River Wild Late-run Winter Steelhead Program; Upper Cowlitz Wild Program; and the Tilton River Wild Program.” The changes proposed for this DPS include: (1) Adding the recently initiated Upper Cowlitz Wild Program because the source for these fish is local, natural-origin fish from the Upper Cowlitz River, which is included in the DPS; (2) adding the recently initiated Tilton River Wild Program because the source for these fish is local, natural-origin fish from the Tilton River; and (3) removing ODFW stock numbers from the names of the Clackamas Hatchery Late Winter-run Program, Sandy Hatchery Late Winter-run Program, and Hood River Winter-run Program.

Steelhead (Middle Columbia River DPS)

We propose to revise this description to read: “Naturally spawned anadromous O. mykiss (steelhead) originating below natural and manmade impassable barriers from the Columbia River and its tributaries upstream of the Wind and Hood Rivers (exclusive) to and including the Yakima River; excludes such fish originating from the Snake River basin. This DPS includes steelhead from the following artificial propagation programs: The Touchet River Endemic Program; Yakima River Kelt Reconditioning Program (in Satus Creek, Toppenish Creek, Naches River, and Upper Yakima River); Umatilla River Program; and the Deschutes River Program. This DPS does not include steelhead that are designated as part of an experimental population.” The change proposed for this DPS is to remove ODFW stock numbers from the names of the Umatilla River Program and the Deschutes River Program.

Steelhead (Puget Sound DPS)

We propose to revise this description to read: “Naturally spawned anadromous O. mykiss (steelhead) originating below natural and manmade impassable barriers from rivers flowing into Puget Sound from the Elwha River (inclusive) eastward, including rivers in Hood Canal, South Sound, North Sound, and the Strait of Georgia. Also, steelhead from the following artificial propagation programs: The Green River Natural Program; White River Winter Steelhead Supplementation Program; Hood Canal Steelhead Supplementation Off-station Projects in the Dewatto, Skokomish, and Duckabush Rivers; Lower Elwha Fish Hatchery Wild Steelhead Recovery Program; and the Fish Restoration Facility Program.” The change proposed for this DPS is to add the new Fish Restoration Facility Program because the source for these fish is the local, natural-origin population within the Duwamish/Green River, which is included in the DPS.

Steelhead (Snake River Basin DPS)

We propose to revise this description to read: “Naturally spawned anadromous O. mykiss (steelhead) originating below natural and manmade impassable barriers from the Snake River basin. Also, steelhead from the following artificial propagation programs: The Tucannon River Program; Dworshak National Fish Hatchery Program; Lolo Creek Program; North Fork Clearwater Program; East Fork Salmon River Natural Program; Little Sheep Creek/Imnaha River Hatchery Program; Little Salmon River (B-run) Program; Squaw Creek Program; Yankee Fork Program; Pahsimeroi River Program; and the South Fork Clearwater Hatchery Program.” The changes proposed for this DPS include: (1) Adding the Little Salmon River (B-run) Program and three Upper Salmon River (B-run) Programs (Squaw Creek Program, Yankee Fork Program, and Pahsimeroi River Program), because these fish are B-run steelhead from the Dworshak National Fish Hatchery Program and North Fork Clearwater Program, which are included in the DPS; (2) adding the South Fork Clearwater Hatchery Program because the source for these fish is the Dworshak National Fish Hatchery Program and North Fork Clearwater Program, which are included in the DPS and, based on the best available scientific information, likely have similar life history and genetics to the local, natural population in the SF Clearwater River; and (3) removing the ODFW stock number from the name of the Little Sheep Creek/Imnaha River Hatchery Program.

Steelhead (Upper Columbia River DPS)

We propose to revise this description to read: “Naturally spawned anadromous O. mykiss (steelhead) originating below natural and manmade impassable barriers from the Columbia River and its tributaries upstream of the Yakima River to the U.S.-Canada border. Also, steelhead from the following artificial propagation programs: The Wenatchee River Program; Wells Hatchery Program (in the Methow and Okanogan Rivers); Winthrop National Fish Hatchery Program; Ringold Hatchery Program; and the Okanogan River Program.” The change proposed for this DPS is to update the name of the Omak Creek Program, which is included in the DPS, to the Okanogan River Program.

References

Copies of previous Federal Register notices and related reference materials are available on the Internet at http://www.westcoast.fisheries.noaa.gov/publications/frn/federal_register_notices.html, or upon request (see FOR FURTHER INFORMATION CONTACT section).

Classification

Executive Order 12866, Regulatory Flexibility Act, and Paperwork Reduction Act

As noted in the Conference Report on the 1982 amendments to the ESA, economic impacts cannot be considered when assessing the status of a species. Therefore, the economic analysis requirements of the Regulatory Flexibility Act are not applicable to the listing process. In addition, this proposed rule is exempt from review under Executive Order 12866. This proposed rule does not contain a collection of information requirement for the purposes of the Paperwork Reduction Act.

Federalism

In accordance with Executive Order 13132, we determined that this proposed rule does not have significant Federalism effects and that a Federalism assessment is not required. In keeping with the intent of the Administration and Congress to provide continuing and meaningful dialogue on issues of mutual state and Federal interest, this proposed rule will be shared with the relevant state agencies.

National Environmental Policy Act of 1969 (NEPA)

The 1982 amendments to the ESA, in section 4(b)(1)(A), restrict the information that may be considered when assessing species for listing. Based on this limitation of criteria for a listing decision and the opinion in Pacific Legal Foundation v. Andrus, 657 F. 2d 829 (6th Cir. 1981), we have concluded that NEPA does not apply to ESA listing actions.

Government-to-Government Relationship With Tribes

Executive Order 13084 requires that if NMFS issues a regulation that significantly or uniquely affects the communities of Indian tribal governments and imposes substantial direct compliance costs on those communities, NMFS must consult with those governments or the Federal government must provide the funds necessary to pay the direct compliance costs incurred by the tribal governments. This proposed rule does not impose substantial direct compliance costs on Indian tribal governments or communities. Accordingly, the requirements of section 3(b) of E.O. 13084 do not apply to this final rule. Nonetheless, during our 5-year review of salmon and steelhead we solicited information from the tribes, met with several tribal governments and associated tribal fisheries commissions, and provided the opportunity for all interested tribes to comment on the proposed changes to the species' status and descriptions and discuss any concerns they may have. We will continue to inform potentially affected tribal governments, solicit their input, and coordinate on future management actions pertaining to the listed species addressed in this proposed rule.

List of Subjects

50 CFR Part 223

Endangered and threatened species, Exports, Imports, Transportation.

50 CFR Part 224

Administrative practice and procedure, Endangered and threatened species, Exports, Imports, Reporting and recordkeeping requirements, Transportation.

Dated: October 17, 2016.
Samuel D. Rauch III,
Deputy Assistant Administrator for Regulatory Programs, National Marine Fisheries Service.

For the reasons set out in the preamble, we propose to amend 50 CFR parts 223 and 224 as follows:

PART 223—THREATENED MARINE AND ANADROMOUS SPECIES

1. The authority citation for part 223 continues to read as follows:

Authority: 16 U.S.C. 1531-1543; subpart B, § 223.201-202 also issued under 16 U.S.C. 1361 et seq.; 16 U.S.C. 5503(d) for § 223.206(d)(9).

2. In § 223.102, amend the table in paragraph (e) by revising the entries for “Salmon, Chinook (Lower Columbia River ESU);” “Salmon, Chinook (Puget Sound ESU);” “Salmon, Chinook (Snake River fall-run ESU);” “Salmon, Chinook (Snake River spring/summer-run ESU);” “Salmon, Chinook (Upper Willamette River ESU);” “Salmon, chum (Columbia River ESU);” “Salmon, chum (Hood Canal summer-run ESU);” “Salmon, coho (Lower Columbia River ESU);” “Salmon, coho (Oregon Coast ESU);” “Salmon, coho (Southern Oregon/Northern California Coast ESU);” “Salmon, sockeye (Ozette Lake ESU);” “Steelhead (California Central Valley DPS);” “Steelhead (Central California Coast DPS);” “Steelhead (Lower Columbia River DPS);” “Steelhead (Middle Columbia River DPS);” “Steelhead (Puget Sound DPS);” “Steelhead (Snake River Basin DPS);” and “Steelhead (Upper Columbia River DPS)” to read as follows:

§ 223.102 Enumeration of threatened marine and anadromous species.

* * * * *

(e) * * *

Species ¹: Common name | Species ¹: Scientific name | Species ¹: Description of listed entity | Citation(s) for listing determination(s) | Critical habitat | ESA rules
* * * * * * *
Fishes
* * * * * * *
Salmon, Chinook (Lower Columbia River ESU) | Oncorhynchus tshawytscha | Naturally spawned Chinook salmon originating from the Columbia River and its tributaries downstream of a transitional point east of the Hood and White Salmon Rivers, and any such fish originating from the Willamette River and its tributaries below Willamette Falls. Not included in this DPS are: | 70 FR 37160, Jun 28, 2005 | 226.212 | 223.203
|  | (1) Spring-run Chinook salmon originating from the Clackamas River; (2) fall-run Chinook salmon originating from Upper Columbia River bright hatchery stocks, that spawn in the mainstem Columbia River below Bonneville Dam, and in other tributaries upstream from the Sandy River to the Hood and White Salmon Rivers; (3) spring-run Chinook salmon originating from the Round Butte Hatchery (Deschutes River, Oregon) and spawning in the Hood River; (4) spring-run Chinook salmon originating from the Carson National Fish Hatchery and spawning in the Wind River; and (5) naturally spawned Chinook salmon originating from the Rogue River Fall Chinook Program. This DPS does include Chinook salmon from the following artificial propagation programs: The Big Creek Tule Chinook Program; Astoria High School Salmon-Trout Enhancement Program (STEP) Tule Chinook Program; Warrenton High School STEP Tule Chinook Program; Cowlitz Tule Chinook Program; North Fork Toutle Tule Chinook Program; Kalama Tule Chinook Program; Washougal River Tule Chinook Program; Spring Creek National Fish Hatchery (NFH) Tule Chinook Program; Cowlitz Spring Chinook Program in the Upper Cowlitz River and the Cispus River; Friends of the Cowlitz Spring Chinook Program; Kalama River Spring Chinook Program; Lewis River Spring Chinook Program; Fish First Spring Chinook Program; Sandy River Hatchery Program; Deep River Net Pens-Washougal Program; Klaskanine Hatchery Program; Bonneville Hatchery Program; and the Cathlamet Channel Net Pens Program
Salmon, Chinook (Puget Sound ESU) | Oncorhynchus tshawytscha | Naturally spawned Chinook salmon originating from rivers flowing into Puget Sound from the Elwha River (inclusive) eastward, including rivers in Hood Canal, South Sound, North Sound and the Strait of Georgia. Also, Chinook salmon from the following artificial propagation programs: The Kendall Creek Hatchery Program; Marblemount Hatchery Program (spring subyearlings and summer-run); Brenner Creek Hatchery Program (summer-run and fall-run); Whitehorse Springs Pond Program; Wallace River Hatchery Program (yearlings and subyearlings); Issaquah Hatchery Program; White River Hatchery Program; White Acclimation Pond Program; Voights Creek Hatchery Program; Diru Creek Program; Clear Creek Program; Kalama Creek Program; George Adams Hatchery Program; Hamma Hamma Hatchery Program; Dungeness/Hurd Creek Hatchery Program; Elwha Channel Hatchery Program; Skookum Creek Hatchery Spring-run Program; Bernie Kai-Kai Gobin (Tulalip) Hatchery-Cascade Program; North Fork Skokomish River Spring-run Program; the Soos Creek Hatchery Program (subyearlings and yearlings); the Fish Restoration Facility Program; the Bernie Kai-Kai Gobin (Tulalip) Hatchery-Skykomish Program; and the Hupp Springs Hatchery-Adult Returns to Minter Creek Program | 70 FR 37160, Jun 28, 2005 | 226.212 | 223.203
Salmon, Chinook (Snake River fall-run ESU) | Oncorhynchus tshawytscha | Naturally spawned fall-run Chinook salmon originating from the mainstem Snake River below Hells Canyon Dam and from the Tucannon River, Grande Ronde River, Imnaha River, Salmon River, and Clearwater River subbasins. Also, fall-run Chinook salmon from the following artificial propagation programs: The Lyons Ferry Hatchery Program; Fall Chinook Acclimation Ponds Program; Nez Perce Tribal Hatchery Program; and the Idaho Power Program | 70 FR 37160, Jun 28, 2005 | 226.205 | 223.203
Salmon, Chinook (Snake River spring/summer-run ESU) | Oncorhynchus tshawytscha | Naturally spawned spring/summer-run Chinook salmon originating from the mainstem Snake River and the Tucannon River, Grande Ronde River, Imnaha River, and Salmon River subbasins. Also, spring/summer-run Chinook salmon from the following artificial propagation programs: The Tucannon River Program; Lostine River Program; Catherine Creek Program; Lookingglass Hatchery Program; Upper Grande Ronde Program; Imnaha River Program; McCall Hatchery Program; Johnson Creek Artificial Propagation Enhancement Program; Pahsimeroi Hatchery Program; Sawtooth Hatchery Program; Yankee Fork Program; Dollar Creek Program; Panther Creek Program; and the Big Sheep Creek-Adult outplanting from Imnaha Program | 70 FR 37160, Jun 28, 2005 | 226.205 | 223.203
Salmon, Chinook (Upper Willamette River ESU) | Oncorhynchus tshawytscha | Naturally spawned spring-run Chinook salmon originating from the Clackamas River and from the Willamette River and its tributaries above Willamette Falls. Also, spring-run Chinook salmon from the following artificial propagation programs: The McKenzie River Hatchery Program; Willamette Hatchery Program; Clackamas Hatchery Program; North Santiam River Program; South Santiam River Program; and the Mollala River Program | 70 FR 37160, Jun 28, 2005 | 226.212 | 223.203
* * * * * * *
Salmon, chum (Columbia River ESU) | Oncorhynchus keta | Naturally spawned chum salmon originating from the Columbia River and its tributaries in Washington and Oregon. Also, chum salmon from the following artificial propagation programs: The Grays River Program; Washougal River Hatchery/Duncan Creek Program; and the Big Creek Hatchery Program | 70 FR 37160, Jun 28, 2005 | 226.212 | 223.203
Salmon, chum (Hood Canal summer-run ESU) | Oncorhynchus keta | Naturally spawned summer-run chum salmon originating from Hood Canal and its tributaries as well as from Olympic Peninsula rivers between Hood Canal and Dungeness Bay (inclusive). Also, summer-run chum salmon from the following artificial propagation programs: the Lilliwaup Creek Fish Hatchery Program; and the Tahuya River Program | 70 FR 37160, Jun 28, 2005 | 226.212 | 223.203
Salmon, coho (Lower Columbia River ESU) | Oncorhynchus kisutch | Naturally spawned coho salmon originating from the Columbia River and its tributaries downstream from the Big White Salmon and Hood Rivers (inclusive) and any such fish originating from the Willamette River and its tributaries below Willamette Falls. Also, coho salmon from the following artificial propagation programs: The Grays River Program; Peterson Coho Project; Big Creek Hatchery Program; Astoria High School Salmon-Trout Enhancement Program (STEP) Coho Program; Warrenton High School STEP Coho Program; Cowlitz Type-N Coho Program in the Upper and Lower Cowlitz Rivers; Cowlitz Game and Anglers Coho Program; Friends of the Cowlitz Coho Program; North Fork Toutle River Hatchery Program; Kalama River Type-N Coho Program; Kalama River Type-S Coho Program; Lewis River Type-N Coho Program; Lewis River Type-S Coho Program; Fish First Wild Coho Program; Fish First Type-N Coho Program; Syverson Project Type-N Coho Program; Washougal River Type-N Coho Program; Eagle Creek National Fish Hatchery Program; Sandy Hatchery Program; Bonneville/Cascade/Oxbow Complex Hatchery Program; Clatsop County Fisheries Net Pen Program; and the Clatsop County Fisheries/Klaskanine Hatchery Program | 70 FR 37160, Jun 28, 2005 | 226.212 | 223.203
Salmon, coho (Oregon Coast ESU) | Oncorhynchus kisutch | Naturally spawned coho salmon originating from coastal rivers south of the Columbia River and north of Cape Blanco. Also, coho salmon from the Cow Creek Hatchery Program | 76 FR 35755, Jun 20, 2011 | 226.212 | 223.203
Salmon, coho (Southern Oregon/Northern California Coast ESU) | Oncorhynchus kisutch | Naturally spawned coho salmon originating from coastal streams and rivers between Cape Blanco, Oregon, and Punta Gorda, California. Also, coho salmon from the following artificial propagation programs: The Cole Rivers Hatchery Program; Trinity River Hatchery Program; and the Iron Gate Hatchery Program | 70 FR 37160, Jun 28, 2005 | 226.210 | 223.203
Salmon, sockeye (Ozette Lake ESU) | Oncorhynchus nerka | Naturally spawned sockeye salmon originating from the Ozette River and Ozette Lake and its tributaries. Also, sockeye salmon from the Umbrella Creek/Big River Hatchery Program | 70 FR 37160, Jun 28, 2005 | 226.212 | 223.203
* * * * * * *
Steelhead (California Central Valley DPS) | Oncorhynchus mykiss | Naturally spawned anadromous O. mykiss (steelhead) originating below natural and manmade impassable barriers from the Sacramento and San Joaquin Rivers and their tributaries; excludes such fish originating from San Francisco and San Pablo Bays and their tributaries. This DPS includes steelhead from the following artificial propagation programs: The Coleman National Fish Hatchery Program; Feather River Fish Hatchery Program; and the Mokelumne River Hatchery Program | 71 FR 834, Jan 5, 2006 | 226.211 | 223.203
Steelhead (Central California Coast DPS) | Oncorhynchus mykiss | Naturally spawned anadromous O. mykiss (steelhead) originating below natural and manmade impassable barriers from the Russian River to and including Aptos Creek, and all drainages of San Francisco and San Pablo Bays eastward to Chipps Island at the confluence of the Sacramento and San Joaquin Rivers. Also, steelhead from the following artificial propagation programs: The Don Clausen Fish Hatchery Program and the Kingfisher Flat Hatchery Program (Monterey Bay Salmon and Trout Project) | 71 FR 834, Jan 5, 2006 | 226.211 | 223.203
Steelhead (Lower Columbia River DPS) | Oncorhynchus mykiss | Naturally spawned anadromous O. mykiss (steelhead) originating below natural and manmade impassable barriers from rivers between the Cowlitz and Wind Rivers (inclusive) and the Willamette and Hood Rivers (inclusive); excludes such fish originating from the upper Willamette River basin above Willamette Falls. This DPS includes steelhead from the following artificial propagation programs: The Cowlitz Trout Hatchery Late Winter-run Program (Lower Cowlitz); Kalama River Wild Winter-run and Summer-run Programs; Clackamas Hatchery Late Winter-run Program; Sandy Hatchery Late Winter-run Program; Hood River Winter-run Program; Lewis River Wild Late-run Winter Steelhead Program; Upper Cowlitz Wild Program; and the Tilton River Wild Program | 71 FR 834, Jan 5, 2006 | 226.212 | 223.203
Steelhead (Middle Columbia River DPS) | Oncorhynchus mykiss | Naturally spawned anadromous O. mykiss (steelhead) originating below natural and manmade impassable barriers from the Columbia River and its tributaries upstream of the Wind and Hood Rivers (exclusive) to and including the Yakima River; excludes such fish originating from the Snake River basin. This DPS includes steelhead from the following artificial propagation programs: The Touchet River Endemic Program; Yakima River Kelt Reconditioning Program (in Satus Creek, Toppenish Creek, Naches River, and Upper Yakima River); Umatilla River Program; and the Deschutes River Program. This DPS does not include steelhead that are designated as part of an experimental population | 71 FR 834, Jan 5, 2006 | 226.212 | 223.203
* * * * * * *
Steelhead (Puget Sound DPS) | Oncorhynchus mykiss | Naturally spawned anadromous O. mykiss (steelhead) originating below natural and manmade impassable barriers from rivers flowing into Puget Sound from the Elwha River (inclusive) eastward, including rivers in Hood Canal, South Sound, North Sound and the Strait of Georgia. Also, steelhead from the following artificial propagation programs: The Green River Natural Program; White River Winter Steelhead Supplementation Program; Hood Canal Steelhead Supplementation Off-station Projects in the Dewatto, Skokomish, and Duckabush Rivers; Lower Elwha Fish Hatchery Wild Steelhead Recovery Program; and the Fish Restoration Facility Program | 72 FR 26722, May 11, 2007 | 226.212 | 223.203
Steelhead (Snake River Basin DPS) | Oncorhynchus mykiss | Naturally spawned anadromous O. mykiss (steelhead) originating below natural and manmade impassable barriers from the Snake River basin. Also, steelhead from the following artificial propagation programs: The Tucannon River Program; Dworshak National Fish Hatchery Program; Lolo Creek Program; North Fork Clearwater Program; East Fork Salmon River Natural Program; Little Sheep Creek/Imnaha River Hatchery Program; Little Salmon River (B-run) Program; Squaw Creek Program; Yankee Fork Program; Pahsimeroi River Program; and the South Fork Clearwater Hatchery Program | 71 FR 834, Jan 5, 2006 | 226.212 | 223.203
* * * * * * *
Steelhead (Upper Columbia River DPS) | Oncorhynchus mykiss | Naturally spawned anadromous O. mykiss (steelhead) originating below natural and manmade impassable barriers from the Columbia River and its tributaries upstream of the Yakima River to the U.S.-Canada border. Also, steelhead from the following artificial propagation programs: The Wenatchee River Program; Wells Hatchery Program (in the Methow and Okanogan Rivers); Winthrop National Fish Hatchery Program; Ringold Hatchery Program; and the Okanogan River Program | 71 FR 834, Jan 5, 2006 | 226.212 | 223.203
* * * * * * *
¹ Species includes taxonomic species, subspecies, distinct population segments (DPSs) (for a policy statement, see 61 FR 4722, February 7, 1996), and evolutionarily significant units (ESUs) (for a policy statement, see 56 FR 58612, November 20, 1991).

* * * * *

PART 224—ENDANGERED MARINE AND ANADROMOUS SPECIES

3. The authority citation for part 224 continues to read as follows:

Authority: 16 U.S.C. 1531-1543 and 16 U.S.C. 1361 et seq.

4. In § 224.101, amend the table in paragraph (h) by revising the entries for “Salmon, Chinook (Sacramento River winter-run ESU)” and “Salmon, Chinook (Upper Columbia River spring-run ESU)” to read as follows:

§ 224.101 Enumeration of endangered marine and anadromous species.

* * * * *

(h) * * *

Species ¹: Common name | Species ¹: Scientific name | Species ¹: Description of listed entity | Citation(s) for listing determination(s) | Critical habitat | ESA rules
* * * * * * *
Fishes
* * * * * * *
Salmon, Chinook (Sacramento River winter-run ESU) | Oncorhynchus tshawytscha | Naturally spawned winter-run Chinook salmon originating from the Sacramento River and its tributaries. Also, winter-run Chinook salmon from the following artificial propagation programs: The Livingston Stone National Fish Hatchery (supplementation and captive broodstock) | 70 FR 37160, June 28, 2005 | 226.204 | NA
Salmon, Chinook (Upper Columbia River spring-run ESU) | Oncorhynchus tshawytscha | Naturally spawned spring-run Chinook salmon originating from Columbia River tributaries upstream of the Rock Island Dam and downstream of Chief Joseph Dam (excluding the Okanogan River subbasin). Also, spring-run Chinook salmon from the following artificial propagation programs: The Twisp River Program; Methow Program; Winthrop National Fish Hatchery Program; Chiwawa River Program; White River Program; and the Nason Creek Program | 70 FR 37160, June 28, 2005 | 226.212 | NA
Salmon, coho (Central California Coast ESU) | Oncorhynchus kisutch | Naturally spawned coho salmon originating from rivers south of Punta Gorda, California to and including Aptos Creek, as well as such coho salmon originating from tributaries to San Francisco Bay. Also, coho salmon from the following artificial propagation programs: The Don Clausen Fish Hatchery Captive Broodstock Program; the Scott Creek/King Fisher Flats Conservation Program; and the Scott Creek Captive Broodstock Program | 70 FR 37160, June 28, 2005; 77 FR 19552, Apr 2, 2012 | 226.210 | NA
Salmon, sockeye (Snake River ESU) | Oncorhynchus nerka | Naturally spawned anadromous and residual sockeye salmon originating from the Snake River basin. Also, sockeye salmon from the Redfish Lake Captive Broodstock Program | 70 FR 37160, June 28, 2005 | 226.205 | NA
* * * * * * *
¹ Species includes taxonomic species, subspecies, distinct population segments (DPSs) (for a policy statement, see 61 FR 4722, February 7, 1996), and evolutionarily significant units (ESUs) (for a policy statement, see 56 FR 58612, November 20, 1991).

* * * * *

[FR Doc. 2016-25438 Filed 10-20-16; 8:45 am]

BILLING CODE 3510-22-P